DEPARTMENT OF HEALTH AND HUMAN SERVICES

Agency for Healthcare Research and Quality

Notice of Amendment—Public Meeting of the AHRQ National Advisory Council for Healthcare Research and Quality Subcommittee On Quality Measures for Children's Healthcare in Medicaid and Children's Health Insurance Programs

With this correction notice, the Agency for Healthcare Research and Quality (AHRQ) informs public of an Amendment made to the notice subject mentioned above which was published on August 20, 2009, Vol. 74, No. 160, pages 42079-42080, The amendment is to add at the end of section SUPPLEMENTARY INFORMATION, the following: “As previously noted, the meeting is open to the public and can also be joined via Webcast. The link to online registration for Webcast is http://www.ConnectLive.com/events/AHRQ2009.”

Dated: September 3, 2009.
Carolyn M. Clancy,
Director.

[FR Doc. E9-21690 Filed 9-9-09; 8:45 am]

BILLING CODE 4160-90-M